NATIONAL SCIENCE FOUNDATION

Proposal Review Panel for Behavioral and Cognitive Sciences; Notice of Meeting

In accordance with the Federal Advisory Committee Act (Pub. L. 92-463 as amended), the National Science Foundation announces the following meeting:

Name: Proposal Review Panel for SBE/Behavioral and Cognitive Sciences—The Science of Learning Center (#10747) Visual Language and Visual Learning (VL2), Gallaudet University Site Visit (V151599).

Dates & Times:

June 10, 2015; 6:00 p.m.-10:00 p.m.

June 11, 2015; 7:30 a.m.-8:30 p.m.

June 12, 2015; 7:30 a.m.-4:00 p.m.

Place: Gallaudet University, Washington, DC 20002.

Type of Meeting: Part Open.

Contact Person: Dr. Soo-Siang Lim, Program Director, Science of Learning Centers Program, Division of Behavioral and Cognitive Science, Room 995, National Science Foundation, 4201 Wilson Boulevard, Arlington, VA 22230, Telephone (703) 292-7878.

Purpose of Meeting: To provide advice and recommendations concerning further support of the SLC program VL2 at the Gallaudet University.

Agenda:

Wednesday, June 10, 2015

6:00 p.m.-10:00 p.m.—Closed—Briefing of panel

Thursday, June 11, 2015

7:15 a.m.-3:50 p.m.—Open—Review of the MRSEC

3:50 p.m.-5:30 p.m.—Open—Break

5:30 p.m.-6:00 p.m.—Closed—Executive Session

6:45 p.m.-8:30 p.m.—Open—Dinner

Friday, June 12, 2015

7:30 a.m.-10:00 a.m.—Closed—Executive Session

10:00 a.m.-4:00 p.m.—Closed—Executive Session, Draft and Review Report

Reason for Closing: The work being reviewed during the site visit will include information of a proprietary or confidential nature, including technical information; financial data, such as salaries and personal information concerning individuals associated with the VL2. These matters are exempt under 5 U.S.C. 552 b(c), (4) and (6) of the Government in the Sunshine Act.

Date: May 19, 2015.
Suzanne Plimpton,
Acting, Committee Management Officer.

[FR Doc. 2015-12484 Filed 5-21-15; 8:45 am]

BILLING CODE 7555-01-P